FEDERAL RETIREMENT THRIFT INVESTMENT BOARD

Sunshine Act; Notice of Meeting

Time and Date: 10 a.m. (Eastern Time), February 17, 2009.

Place: Serco Inc., 1818 Library Street, Suite 1000, Reston, Virginia 20190.

Status: Open to the public.

Matters To Be Considered:

1. Approval of the minutes of the January 15, 2008 Board member meeting.

2. Transition from SI International to Serco Inc.

3. Systems Modernization Plan Update.

4. Department of Labor Audit Briefing.

a. Audit of the System Enhancements and Development Lifecycle and Software Change Controls over the Thrift Savings Plan System.

b. Audit of the Service Continuity Controls over the Thrift Savings Plan System.

5. Thrift Savings Plan Activity Report by the Executive Director.

a. Monthly Participation Activity Report.

b. Legislative Report.

c. Employee Thrift Advisory Committee Report.

d. Office of Participant Services Report.

6. Real Estate Investment Trust Report.

7.Participant Survey Report.

Contact Person for More Information: Thomas J. Trabucco, Director, Office of External Affairs, (202) 942-1640.

Dated: February 9, 2009.
Thomas K. Emswiler,
Secretary, Federal Retirement Thrift Investment Board.

[FR Doc. E9-3058 Filed 2-9-09; 4:15 pm]

BILLING CODE 6760-01-P